FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: National Flood Insurance Program Biennial Report.

Type of Information Collection: Revision of a currently approved collection.

OMB Number: 3067-0018.

Abstract: The National Flood Insurance Program Biennial Report forms provide information on changes to each participating community's flood hazard area, which may include new corporate boundaries, changes in flood hazard areas, new floodplain management measures, and changes in the rate of floodplain development. The information is also used to evaluate the effectiveness of a community's floodplain management activities by analyzing the number of variances and floodplain permits granted by each community against other information in the Biennial Report and the FEMA Community Information System. FEMA regional offices use the information to provide technical assistance to communities implementing a floodplain management program. Information from the forms will be input in FEMA's Mapping Needs Update Support System (MNUSS) for use in ranking and prioritizing one community's mapping needs against all other communities in the National Flood Insurance Program to determine how the limited flood hazard mapping funds will be allocated for map updates. Communities will have the option of responding on-line through a FEMA website or completing the paper forms and returning them via the mail system.

Affected Public: State, local or Tribal Government. .

Number of Respondents: 19,687 communities in the NFIP. One-half or 9,844 communities may submit the Biennial Report on an annual basis.

Estimated Time Per Respondent for the Following Forms:

FEMA Form 81-28, Emergency and Regular Program (Minimally Floodprone), range from .5 hour-1.5 hours with an average of 1 hour.

FEMA Form 81-29, Regular Program (With Base Flood Elevations), Range from 1 hour-2.5 hours, with an average of 1.25 hours.

FEMA Form 81-29A, Regular Program (No Special Flood Hazard Areas Designated), 12 minutes.

Estimated Total Annual Burden Hours: Annual burden ranges from 8,925-13,641 hours with an average of 11,283 hours per year (one-half of the biennial burden hours.).

Frequency of Response: Once for each form

Comments

Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347 or e-mail address: InformationCollections@fema.gov.

Dated: August 30, 2002.
Reginald Trujillo,
Branch Chief, Program Services and Systems Branch, Facilities Management and Services Division, Administration and Resource Planning Directorate.

[FR Doc. 02-22820 Filed 9-6-02; 8:45 am]

BILLING CODE 6718-01-P